DEPARTMENT OF COMMERCE

National Oceanic and Atmospheric Administration

[RTID 0648-XD833]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: Atlantic Region, NMFS, has made a preliminary determination that an Exempted Fishing Permit application contains all of the required information and warrants further consideration. The Exempted Fishing Permit would allow commercial fishing vessels to fish outside fishery regulations in support of research conducted by the applicant. Regulations under the Magnuson-Stevens Fishery Conservation and Management Act require publication of this notification to provide interested parties the opportunity to comment on applications for proposed Exempted Fishing Permits.

DATES: Comments must be received on or before April 11, 2024.

ADDRESSES: You may submit written comments by any of the following methods:

• Email: nmfs.gar.efp@noaa.gov. Include in the subject line “NEFSC Study Fleet EFP”.

FOR FURTHER INFORMATION CONTACT: Elise Scholl, Fishery Management Specialist, (978) 281-9189.

SUPPLEMENTARY INFORMATION: The applicant submitted a complete application for an Exempted Fishing Permit (EFP) to conduct commercial fishing activities that the regulations would otherwise restrict. This EFP would exempt the participating vessels from the following Federal regulations:

Table 1—Requested Exemptions
CFR citation | Regulation | Need for exemption
648.83 | Multispecies Minimum Fish Sizes | Allow possession of haddock, yellowtail flounder, winter flounder, and American plaice below minimum size on common pool and sector vessels for biological sampling purposes.
684.86(a) | Haddock Possession Restriction | Allow possession of haddock for biological sampling.
648.86(d) | Small-Mesh Multispecies Possession Restriction | Exempt vessels from small-mesh possession restrictions for biological sampling.
648.86(g) | Yellowtail Flounder Possession Restriction | Exempt common pool vessels from yellowtail possession restrictions and limitations.
648.86(j) | Georges Bank Winter Flounder Possession Restriction | Exempt common pool vessels from winter flounder restrictions.

Table 2—Project Summary
Project title | Study fleet program
Applicant | Northeast Fisheries Science Center's Cooperative Research Branch.
Project objectives | Allow fishermen and Center staff to collect biological data and biological samples relevant to stock assessments and fish biology.
Project period | May 1, 2024-April 30, 2025.
Project location | The Gulf of Maine, Georges Bank, Southern New England, and the Mid-Atlantic.
Number of vessels | 25.
Number of trips | 250.
Trip duration (days) | 5.
Total number of days | 1,250.
Gear type(s) | Otter trawl, scallop dredge, midwater otter trawl, paired trawl.
Number of tows or sets | 7.
Duration of tows or sets | 1 hour.

Project Narrative

The Northeast Fisheries Science Center's Cooperative Research Branch is requesting an EFP to allow participants in their Study Fleet Program to collect biological information on catch. The Center established the Study Fleet Program in 2002 to more fully characterize commercial fishing operations and provide sampling opportunities to augment NOAA's National Marine Fisheries Service's data collection programs. As part of the program, the Center contracts commercial fishing vessels to collect biological data and fish specimens for use in research relevant to stock assessments and fish biology.

Under the EFP, Study Fleet participants would be allowed to temporarily possess catch that is below minimum size restrictions and above possession limits for the purposes of biological sampling. When directed by the Center, participating vessels would be authorized to retain and land specific amounts of fish exceeding possession limits and/or below minimum fish sizes, for research purposes only. The captain or crew would deliver these fish to Center staff or local Port Agents upon landing. In these limited circumstances, the Study Fleet Program would give participating vessels a formal biological sampling request prior to landing. This would ensure that the landed fish do not exceed any collection needs of the Study Fleet Program, as detailed below.

During EFP trips, crew would sort, weigh, measure, and collect biological data from fish prior to discarding. During sampling, some discarded fish would remain on deck slightly longer than they would under normal sorting procedures. Exemptions from minimum fish sizes and possession restrictions would allow vessels to temporarily retain catch for at-sea sampling.

Vessels would be required to comply with all other applicable regulations specified at 50 CFR part 648 and would not be exempt from any inseason quota closures. All catch would be attributed to the appropriate commercial fishing quota. For a vessel fishing on a groundfish sector trip, all catch of groundfish stocks allocated to sectors would be deducted from the vessel's sector's annual catch entitlement (ACE). If the ACE for a stock has been reached in a sector, participating vessels would no longer be allowed to fish in that stock area unless the sector acquires additional ACE for the stock in question. For participating common pool vessels, all groundfish catch would be counted toward the appropriate trimester total allowable catch (TAC). Common pool vessels would be exempt from the possession and trip limits, but would still be subject to trimester TAC closures.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

All comments received are a part of the public record and may be posted for public viewing without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: March 22, 2024.
Everett Wayne Baxter,
Acting Director, Office of Sustainable Fisheries, National Marine Fisheries Service.

[FR Doc. 2024-06492 Filed 3-26-24; 8:45 am]

BILLING CODE 3510-22-P